DEPARTMENT OF THE INTERIOR

Fish and Wildlife Service

[FWS-R1-ES-2019-N086; FXES11140100000-190-FF01E00000]

Habitat Conservation Plan for the Yelm Pocket Gopher; Incidental Take Permit Application in Thurston County, Washington; Categorical Exclusion

AGENCY: Fish and Wildlife Service, Interior.

ACTION: Notice of availability; request for comments.

SUMMARY: We, the U.S. Fish and Wildlife Service, have received an application from M-Gopher, LLC, for an incidental take permit (ITP) pursuant to the Endangered Species Act. The ITP would authorize “take” of the Yelm subspecies of the Mazama pocket gopher, incidental to otherwise lawful activities during construction of a single-family home in Thurston County, Washington. The application includes a habitat conservation plan (HCP) with measures to minimize and mitigate the impacts of the taking of the Yelm pocket gopher. We have also prepared a draft environmental action statement (EAS) that includes our preliminary determination that the ITP decision may be eligible for categorical exclusion under the National Environmental Policy Act. We provide this notice to open a public comment period and to invite comments from all interested parties regarding the above-referenced documents.

DATES: To ensure consideration, please submit written comments by October 23, 2019.

ADDRESSES: To access or request documents, request further information, and/or submit written comments, please use the following methods:

• Internet: You may view or download copies of the HCP and EAS, and obtain additional information, at http://www.fws.gov/wafwo/.

• Email: wfwocomments@fws.gov. Include “M-Gopher HCP” in the subject line of the message.

• U.S. Mail: Public Comments Processing, Attn: FWS-R1-ES-2019-N086; U.S. Fish and Wildlife Service; Washington Fish and Wildlife Office; 510 Desmond Drive SE, Suite 102; Lacey, WA 98503.

• In-Person Drop-off, Viewing, or Pickup: Call 360-753-5823 to make an appointment (necessary for viewing or picking up documents only) during regular business hours at the above address.

FOR FURTHER INFORMATION CONTACT: Tim Romanski, Conservation Planning and Hydropower Branch Manager, Washington Fish and Wildlife Office, U.S. Fish and Wildlife Service (see ADDRESSES), telephone: 360-753-5823. If you use a telecommunications device for the deaf, please call the Federal Relay Service at 800-877-8339.

SUPPLEMENTARY INFORMATION: We, the U.S. Fish and Wildlife Service (Service), have received an application for an incidental take permit (ITP) pursuant to section 10(a)(1)(B) of the Endangered Species Act of 1973, as amended (ESA; 16 U.S.C. 1531 et seq.). M-Gopher, LLC (the applicant), requests a 7-year permit term that would authorize “take” of the Yelm subspecies of the Mazama pocket gopher (Thomomys mazama yelmensis), hereafter referred to as Yelm pocket gopher, incidental to construction of one single-family home on land in Thurston County, Washington. This species is listed as threatened under the ESA. The application includes a habitat conservation plan (HCP) that describes actions the applicant will take to minimize and mitigate the impacts of the taking on the Yelm pocket gopher. We have prepared an environmental action statement (EAS) for the Service's proposed action, in accordance with the requirements of the National Environmental Policy Act of 1969 (NEPA; 42 U.S.C. 4321 et seq.). The EAS includes our preliminary determination that the ITP decision may be eligible for categorical exclusion under NEPA.

Background

Section 9 of the ESA and its implementing regulations in title 50 of the Code of Federal Regulations prohibit “take” of fish and wildlife species listed as endangered or threatened. Under the ESA, the term “take” means to harass, harm, pursue, hunt, shoot, wound, kill, trap, capture, or collect, or to attempt to engage in any such conduct (16 U.S.C. 1532(19)).

Section 10(a)(1)(B) of the ESA contains provisions that authorize the Service to issue permits to non-Federal entities for the take of endangered and threatened species caused by otherwise lawful activities, provided the following criteria are met: (1) The taking will be incidental; (2) the applicant will, to the maximum extent practicable, minimize and mitigate the impact of such taking; (3) the applicant will ensure that adequate funding for the plan will be provided; (4) the taking will not appreciably reduce the likelihood of the survival and recovery of the species in the wild; and (5) the applicant will carry out any other measures that the Service may require as being necessary or appropriate for the purposes of the plan. Regulations governing permits for endangered and threatened species are found in 50 CFR 17.22 and 17.32, respectively.

Proposed Action

The Service proposes to issue the requested ITP based on the applicant's commitments to implement the HCP, if permit issuance criteria are met. Covered activities include construction of a single-family home. The area covered under the M-Gopher, LLC, HCP consists of an approximately 0.75-acre project development site, and purchase of a 1-acre mitigation area at an offsite location, the Leitner Prairie conservation site. Take of the Yelm pocket gopher would occur within the development site. Offsetting the impacts of the taking of the Yelm pocket gopher would occur through the permanent protection of the mitigation area. Funding for the management of the mitigation site would be assured as described in the HCP.

Public Comments

You may submit your comments and materials by one of the methods listed in ADDRESSES. We specifically request information, views, and suggestions from interested parties regarding our proposed Federal action, including adequacy of the HCP pursuant to the requirements for permits at 50 CFR parts 13 and 17 and adequacy of the EAS pursuant to NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety. Comments and materials we receive will be available for public inspection by appointment, during normal business hours, at our Washington Fish and Wildlife Office (see ADDRESSES).

Authority

We provide this notice in accordance with the requirements of section 10 of the ESA and NEPA and their respective implementing regulations (50 CFR 17.32 and 40 CFR 1506.6).

Robyn Thorson,
Regional Director, U.S. Fish and Wildlife Service.

[FR Doc. 2019-20544 Filed 9-20-19; 8:45 am]

BILLING CODE 4333-15-P